BUREAU OF CONSUMER FINANCIAL PROTECTION

[Docket No: CFPB-2015-0037]

Agency Information Collection Activities: Comment Request

AGENCY: Bureau of Consumer Financial Protection.

ACTION: Notice and request for comment.

SUMMARY: In accordance with the Paperwork Reduction Act of 1995 (PRA), the Consumer Financial Protection Bureau (CFPB) is requesting a new information collection titled, “Web-Based Quantitative Testing of Point of Sale/ATM (POS/ATM) Overdraft Disclosure Forms.”

DATES: Written comments are encouraged and must be received on or before November 3, 2015 to be assured of consideration.

ADDRESSES: You may submit comments, identified by the title of the information collection, OMB Control Number (see below), and docket number (see above), by any of the following methods:

• Electronic: http://www.regulations.gov. Follow the instructions for submitting comments.

• Mail: Consumer Financial Protection Bureau (Attention: PRA Office), 1700 G Street NW., Washington, DC 20552.

• Hand Delivery/Courier: Consumer Financial Protection Bureau (Attention: PRA Office), 1275 First Street NE., Washington, DC 20002.

Please note that comments submitted after the comment period will not be accepted. In general, all comments received will become public records, including any personal information provided. Sensitive personal information, such as account numbers or social security numbers, should not be included.

FOR FURTHER INFORMATION CONTACT: Documentation prepared in support of this information collection request is available at www.regulations.gov. Requests for additional information should be directed to the Consumer Financial Protection Bureau, (Attention: PRA Office), 1700 G Street NW., Washington, DC 20552, (202) 435-9575, or email: PRA@cfpb.gov. Please do not submit comments to this mailbox.

SUPPLEMENTARY INFORMATION:

Title of Collection: Web-Based Quantitative Testing of Point of Sale/ATM (POS/ATM) Overdraft Disclosure Forms.

OMB Control Number: 3170-XXXX.

Type of Review: New Collection (Request for a new OMB control number).

Affected Public: Individuals or Households.

Estimated Number of Respondents: 41,351.

Estimated Total Annual Burden Hours: 2,827.

Abstract: The CFPB seeks approval from the Office of Management and Budget (“OMB”) to conduct a national web survey of 8,000 individuals as part of its study of ATM/debit card overdraft disclosure forms, which is being undertaken under the CFPB's regulatory authority for the Electronic Fund Transfer Act.

The survey will explore consumer comprehension and decision-making in response to revised overdraft disclosure forms. It will also explore financial product usage, behavioral traits, and other consumer characteristics that may interact with a consumer's experiences with overdraft programs and related disclosure forms. The survey will include a representative sample of the U.S. adult checking account-holding population, with oversampling of respondents who are more likely to have experience with overdraft fees.

Request for Comments: Comments are invited on: (a) Whether the collection of information is necessary for the proper performance of the functions of the CFPB, including whether the information will have practical utility; (b) The accuracy of the CFPB's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Dated: August 25, 2015.
Linda F. Powell,
Chief Data Officer, Bureau of Consumer Financial Protection.

[FR Doc. 2015-22003 Filed 9-3-15; 8:45 am]

BILLING CODE 4810-AM-P